FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 25, 2019.

A. Federal Reserve Bank of Kansas City (Dennis Denney, Assistant Vice President) 1 Memorial Drive, Kansas City, Missouri 64198-0001:

1. Brian G. Wurst, Lamar, Colorado, as Trustee of the Frank E. Whitham Trust No. 1, the Frank E. Whitham Trust No. 2, and Stewart A Whitham Trust No. 3; to be approved as a member of the Whitham Control Group and thereby acquire shares of Whitcorp Financial Company, Leoti, Kansas, and indirectly acquire shares of Western State Bank, Garden City, Kansas, and Frontier Bank, Lamar, Colorado.

2. Cynthia Judd Martinez, Lincoln, Nebraska; Paul W. Judd, Fairbury, Nebraska; and Maurice G. Judd, Fairbury, Nebraska; to be approved as members of the Judd Family Group and retain additional voting shares of Washington 1st Banco, Inc. (the Company) and thereby indirectly retain shares of FNB Washington, both of Washington, Kansas.

Additionally, David A. Judd, Pomona, Kansas; Gary W. Judd, Parkville, Missouri; and Nancy L. Judd, Lincoln, Nebraska; to be approved as members of the Judd Family Group and thereby retain voting shares of the Company, as members of the group.

Board of Governors of the Federal Reserve System, July 10, 2019.
Yao-Chin Chao,
Assistant Secretary of the Board.

[FR Doc. 2019-14957 Filed 7-12-19; 8:45 am]

BILLING CODE P